SURFACE TRANSPORTATION BOARD

[Docket No. FD 36109]

Grupo México, S.A.B. de C.V. and GMéxico Transportes, S.A. de C.V.—Control Exemption—Florida East Coast Holdings Corp.

AGENCY: Surface Transportation Board.

ACTION: Correction to notice of exemption.

On April 10, 2017, GMéxico Transportes, S.A. de C.V. (GMéxico Transportes), a non-carrier holding company, filed a verified notice of exemption pursuant to 49 CFR 1180.2(d)(2) to control Florida East Coast Railway, L.L.C. (FECR), a Class II rail carrier operating in the state of Florida, and Texas Pacifico Transportation, Ltd. (Pacifico), a Class III rail carrier operating in the state of Texas, upon the merger of GMXT Florida Merger Sub, Inc., a non-carrier subsidiary of GMéxico Transportes, with and into Florida East Coast Holdings Corp., a non-carrier currently controlling FECR. On April 28, 2017, GMéxico Transportes filed an amendment to its verified notice of exemption to identify and encompass its parent company, Grupo México, S.A.B. de C.V. (Grupo México), also a non-carrier holding company, and to identify Copper Basin Railway, Inc. (Copper Basin), a Class III rail carrier operating in the state of Arizona, as an additional carrier which Grupo México controls.

Notice of the exemption was served on May 9, 2017, and published in the Federal Register on May 12, 2017. (82 FR 22,181). On May 11, 2017, GMéxico Transportes filed a letter requesting that the Board correct the statement on page one of the notice that “Control of [FECR, Pacifico, and Copper Basin] by Grupo México and GMéxico Transportes will be effected upon the merger” to clarify that GMéxico Transportes will not obtain control of Copper Basin as a result of the transaction. By this notice, that statement is corrected to read as follows: “Control of FECR, Pacifico, and Copper Basin by Grupo México, including control of Pacifico and FECR by GMéxico Transportes, as a subsidiary of Grupo México, will be effected upon the merger described in the notice.” All other information in the notice remains unchanged.

Board decisions and notices are available on our Web site at “WWW.STB.GOV.”

Decided: May 22, 2017.
By the Board, Scott M. Zimmerman, Acting Director, Office of Proceedings.
Kenyatta Clay,
Clearance Clerk.

[FR Doc. 2017-10718 Filed 5-24-17; 8:45 am]

BILLING CODE 4915-01-P